DEPARTMENT OF THE INTERIOR

Bureau of Indian Affairs

[189A2100DD/AAKC001030/A0A501010.999900253G]

Indian Gaming; Tribal-State Class III Gaming Compacts Taking Effect in the State of California

AGENCY: Bureau of Indian Affairs, Interior.

ACTION: Notice.

SUMMARY: This notice announces that the Tribal-State Class III Gaming Compacts entered into between the Dry Creek Band of Pomo Indians, the Federated Indians of Graton Rancheria, the Morongo Band of Mission Indians, the Quechan Tribe of the Fort Yuma Indian Reservation, the San Manuel Band of Mission Indians, the Tule River Indian Tribe of the Tule River Indian Reservation, the Tuolumne Band of Me-Wuk Indians of the Tuolumne Rancheria of California, the United Auburn Indian Community of the Auburn Rancheria of California, and the Wilton Rancheria, respectively, and the State of California are taking effect.

DATES: The compacts take effect on January 22, 2018.

FOR FURTHER INFORMATION CONTACT: Ms. Paula L. Hart, Director, Office of Indian Gaming, Office of the Assistant Secretary—Indian Affairs, Washington, DC 20240, telephone: (202) 219-4066.

SUPPLEMENTARY INFORMATION: Section 11 of the Indian Gaming Regulatory Act (IGRA) requires the Secretary of the Interior to publish in the Federal Register notice of an approved Tribal-State compact that is for the purpose of engaging in Class III gaming activities on Indian lands. See Public Law 100-497, 25 U.S.C. 2701 et seq. All Tribal-State Class III compacts, including amendments, are subject to review and approval by the Secretary under 25 CFR 293.4. The Secretary took no action on the compacts within 45 days of their submission. Therefore, the compacts are considered to have been approved, but only to the extent the compacts are consistent with IGRA.

Authority: 25 U.S.C. 2710(d)(8)(C).

Dated: December 15, 2017.
John Tahsuda,
Principal Deputy Assistant Secretary—Indian Affairs Exercising the Authority of the Assistant Secretary—Indian Affairs.

[FR Doc. 2018-01058 Filed 1-19-18; 8:45 am]

BILLING CODE 4337-15-P